NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 24, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-09-3, 2 items, 2 temporary items). Master files and outputs of an electronic information system that contains enlisted promotion eligibility data such as date of birth, social security number, time in service, expiration of service, and misconduct indicators.

2. Department of Homeland Security, Office of Cyber Security and Communications (N1-563-08-30, 8 items, 5 temporary items). Files accumulated by attendees of International Telecommunications Union meetings, non-significant telecommunication interoperability case studies, and technical assessments of communication technologies. Proposed for permanent retention are significant telecommunication interoperability case studies, the National Communications Capabilities Report, and the National Emergency Communications Plan.

3. Department of Homeland Security, U.S. Secret Service (N1-87-09-3, 7 items, 7 temporary items). Records relating to accreditation matters accumulated by the agency's James J. Rowley Training Center.

4. Department of Homeland Security, U.S. Secret Service (N1-87-09-4, 3 items, 3 temporary items). Records associated with an electronic information system used to report breaches in proprietary information. Included are master files, litigation records, and duplicate data stored on an external server.

5. Department of Housing and Urban Development, Office of General Counsel (N1-207-09-5, 1 item, 1 temporary item). Master files of the Enterprise Tracking System, an electronic information system used to create, track, and process regulations, directives, dockets, and cases throughout the agency.

6. Department of Justice, Federal Bureau of Investigation (N1-65-07-17, 2 items, 2 temporary items). Metadata and data files associated with an electronic information system used to manage the scanning of agency records. This schedule does not cover the imaged records, which are maintained by the requesting unit.

7. Department of the Treasury, Internal Revenue Service (N1-58-09-1, 1 item, 1 temporary item). Forms used in connection with assisting in the resolution of taxpayer problems.

8. Department of the Treasury, Internal Revenue Service (N1-58-09-4, 1 item, 1 temporary item). Forms submitted by taxpayers in order for expatriation or termination of residency to be effective for tax purposes.

9. Department of the Treasury, Internal Revenue Service (N1-58-09-5, 2 items, 2 temporary items). Master files and outputs of an electronic information system to control and monitor flow-through entities and linked investor returns.

10. Department of the Treasury, Internal Revenue Service (N1-58-09-6, 2 items, 2 temporary items). Fraud case files and related records accumulated by the Small Business/Self Employed Business Unit.

11. Department of the Treasury, Internal Revenue Service (N1-58-09-10, 1 item, 1 temporary item). Records relating to the examination of retirement plans.

12. Broadcasting Board of Governors, Office of the General Counsel (N1-517-09-1, 5 items, 2 temporary items). General legal files and files relating to non-precedential litigation. Proposed for permanent retention are files relating to litigation cases and other legal matters that establish precedents and international agreement background files.

13. Environmental Protection Agency, Agency-wide (N1-412-08-14, 1 item, 1 temporary item). Quality assurance records, including collections of laboratory standard operating procedures used to implement and assess environmental measurement activities. Excluded are quality assurance records that are part of specific project or research files covered by other records disposition schedules.

14. Environmental Protection Agency, Agency-wide (N1-412-08-15, 2 items, 2 temporary items). Electronic data and data standards documentation used to improve the quality of environmental data and facilitate data integration.

15. Environmental Protection Agency, Office of Air and Radiation (N1-412-09-2, 1 item, 1 temporary item). Electronic data in a clearinghouse containing summaries of Federal air pollution control regulations as well as State, local, and regional air pollution control permits.

16. Nuclear Regulatory Commission, Office of Federal and State Materials and Environmental Management Programs (N1-431-08-2, 1 item, 1 temporary item). Electronic records that contain information concerning sealed source devices and the individuals and organizations holding licenses to maintain such devices.

17. Nuclear Regulatory Commission, Office of Federal and State Materials and Environmental Management Programs (N1-431-08-12, 3 items, 3 temporary items). Master files and outputs of an electronic information system that tracks licenses for byproduct, source, and special nuclear materials for applications other than nuclear reactors.

18. Southwestern Power Administration, Agency-wide (N1-387-09-1, 256 items, 203 temporary items). Comprehensive schedule covering all administrative and program areas including administrative management and support, budgeting, financial management, information technology, rates and repayment, environmental safety and health, security, power maintenance, engineering and planning, power operations, and public affairs. Included are records relating to such subjects as cash management, cost allocation, power accounting, tax reporting, travel, year 2000 computer systems policy and planning, plant accounting, environmental monitoring, waste water discharge, security system maintenance, transmission line maintenance, power operations reporting, customer associations, and power billing invoicing. Proposed for permanent retention are such records as biographical data for high-level officials, legal opinions, power repayment studies, budget policy files, records relating to cleanup of hazardous waste sites, environmental impact statements, archaeological records, emergency management and planning files, agency histories, rate history documents, and hydroelectric power planning and operations records.

Dated: March 20, 2009.
Michael J. Kurtz,
Assistant Archivist for Records Services—Washington, DC.

[FR Doc. E9-6758 Filed 3-24-09; 8:45 am]

BILLING CODE 7515-01-P